DEPARTMENT OF LABOR

Occupational Safety and Health Administration

Maritime Advisory Committee on Safety and Health (MACOSH)

AGENCY: Occupational Safety and Health Administration (OSHA), Labor.

ACTION: Membership announcement of the re-established Maritime Advisory Committee on Safety and Health (MACOSH).

SUMMARY: The Secretary of Labor has reestablished the charter of the Maritime Advisory Committee for Occupational Safety and Health (MACOSH), which expired on April 1, 2005. The purpose of MACOSH is to obtain advice for the Assistance Secretary of Labor for Occupational Safety and Health (Assistant Secretary) from a broad range of representatives from the maritime industry on all matters relevant to the safety and health of employees in that sector. The Assistant Secretary will seek the advice of this committee on activities in the maritime industry related to the priorities set for the Agency, including: Strong, fair and effective enforcement; expanded compliance assistance, guidance and outreach; expanded partnerships and voluntary programs; leadership in the national dialogue on occupational safety and health; and regulatory matters affecting the maritime industry, as appropriate.

The committee is diverse and balanced, both in terms of segments of the maritime industry represented (e.g., shipyard and longshoring industries), and in the views or interests represented by the members. The Maritime Advisory Committee for Occupational Safety and Health has been reestablished and chartered for a two year term.

FOR FURTHER INFORMATION CONTACT: Jim Maddux, Director, Office of Maritime, OSHA, U.S. Department of Labor, Room N-3609, 200 Constitution Avenue, N.W., Washington, DC 20210. Phone: (202) 693-2086; Fax: (202) 693-1663.

SUPPLEMENTARY INFORMATION:

I. Background

On June 26, 2006, the Secretary of Labor announced her intention to reestablish a Maritime Advisory Committee on Safety and Health (71 FR 32374). The maritime industry has historically had a high incidence of illnesses and injuries. The types of work performed can be quite different in various parts of the industry, ranging from manufacturing type work in shipyards to longshoring operations. OSHA has targeted this industry for special attention because of the incidence of illnesses and injuries, and the specialized nature of some of the work. This targeting has included development of guidance or outreach materials specific to the industry, as well as rulemaking to update requirements, and other activities to help focus attention on the industry and reduce the occurrence of illnesses and injuries. This committee will be used to advise OSHA on these ongoing activities and in new areas where the Agency chooses to pursue or expand its programs and projects to further address these specific needs. The advice of the committee will help the Agency in terms of substantive input on conditions in the industry, recommendations that could be implemented to reduce illnesses and injuries, and feedback on Agency initiatives in the maritime industry.

II. Establishment

The committee will function solely as an advisory body, and in compliance with the provisions of Section 7(b) of the OSHA Act (29 U.S.C. 656), the Federal Advisory Committee Act (5 U.S.C. App. 20), and 41 CFR part 102-3.

III. Appointment of Committee Members

Over forty nominations of highly qualified individuals were received in response to the Agency's request for nominations. Maritime safety and health involves a wide range of complex issues. For that reason, the Secretary has selected to serve on the committee the following individuals who have broad experience relevant to the issues to be examined by the Committee. The MACOSH members are:

Stewart Adams, U.S. Department of the Navy, Naval Sea Systems Command (NAVSEA).

James D. Burgin, Cooper/T. Smith Corporation.

John Castanho, International Longshore & Warehouse Union.

Warren Fairley, International Brotherhood of Boilermakers, Iron Shipbuilders, Blacksmiths, Forgers and Helpers.

Michael J. Flynn, International Association of Machinists and Aerospace Workers.

Robert E. Gleason, International Longshoremen's Association.

Stephen D. Hudock, National Institute for Occupational Safety and Health.

Charles R. Leon, Washington State Department of Labor and Industries.

Marc MacDonald, Pacific Maritime Association.

Captain Teresa Preston, Atlantic Marine Holding Company.

Donald V. Raffo, General Dynamics.

Captain Lorne W. Thomas, United States Coast Guard.

James R. Thornton, Northrop Grumman Newport News Shipyard.

David J. Tubman, Jr., Marine Engineers' Beneficial Association.

Ernest D. Whelan, International Union of Operating Engineers-Local 25, Marine Division.

IV. Future Meetings

As specified in the MACOSH charter, OSHA will convene up to three MACOSH committee meetings per year. OSHA expects to convene the first meeting in September or October of this year. As soon as meeting arrangements are completed, OSHA will announce the specific date and location of the meeting, along with a list of topics to be discussed, in the Federal Register. OSHA encourages the public to attend all MACOSH meetings.

V. Authority

This notice was prepared under the direction of Edwin G. Foulke, Jr., Assistant Secretary for Occupational Safety and Health. It is issued under the authority of Sections 6(b)(1) and 7(b) of the Act of 1970 (29 U.S.C. 655, 656), 29 CFR part 1912 and the Federal Advisory Committee Act (FACA) (5 U.S.C. App. 2).

Signed at Washington, DC, this 31st day of July, 2006.
Edwin G. Foulke, Jr.,
Assistant Secretary of Labor.

[FR Doc. 06-6746 Filed 8-7-06; 8:45 am]

BILLING CODE 4510-26-M